DEPARTMENT OF THE INTERIOR

Bureau of Reclamation

[RR02030700, XXXR0680R1, RR.17529652.MP70012]

Notice of Intent To Prepare an Environmental Impact Report/Environmental Impact Statement for the Sacramento Regional County Sanitation District South County Ag Water Recycling Program

AGENCY: Bureau of Reclamation, Interior.

ACTION: Notice of intent.

SUMMARY: The Bureau of Reclamation, the lead Federal agency, and the Sacramento Regional County Sanitation District (Regional San), the lead state agency, will prepare a joint Environmental Impact Report/Environmental Impact Statement (EIR/EIS) for the South County Ag Water Recycling Program (Project). The Project would deliver approximately 45,000 acre-feet per year of Title 22 disinfected tertiary treated recycled water to about 16,000 acres of irrigated lands in southern Sacramento County for agricultural and urban landscape uses and to the Stone Lakes National Wildlife Refuge. The Project could also provide an additional 5,000 acre-feet per year of recycled water for groundwater recharge, for a total recycled water delivery of 50,000 acre-feet per year.

DATES: Submit written comments on the scope of the EIR/EIS by November 30, 2015.

ADDRESSES: Send written comments on the scope of the EIR/EIS to Mr. Jose Ramirez, Project Manager, Sacramento County Regional Sanitation District (Regional San), 10060 Goethe Road, Sacramento, California 95827; or by email to ramirezj@sacsewer.com.

FOR FURTHER INFORMATION CONTACT: Mr. Jose Ramirez, Regional San at (916) 879-6059, email at ramirezj@sacsewer.com; or Mr. Douglas Kleinsmith, Bureau of Reclamation, (916) 978-5034, email at dkleinsmith@usbr.gov.

SUPPLEMENTARY INFORMATION: The Project water comes from the Regional San Sacramento Regional Water Treatment Plant (SRWTP) located in Elk Grove, California. Presently, the SRWTP treats and discharges secondary effluent into the Sacramento River and operates a 5-million-gallon-per-day (mgd) Water Recycling Facility to produce tertiary effluent. In December 2010, the Central Valley Regional Water Quality Control Board adopted new Waste Discharge Requirements (WDRs) for Regional San. The new WDRs require treatment upgrades to be operational by December 2023, and have prompted Regional San to evaluate a multitude of technologies to produce up to 181 mgd of Title 22 disinfected tertiary recycled water or `equivalent' quality effluent. Following a pilot study of various technologies, one technology has been selected to treat wastewater to Title 22 disinfected tertiary level, which is suitable for agriculture.

Title 22 disinfected tertiary recycled water generated at the SRWTP would be conveyed to agricultural and urban customers using a new pump station at the SRWTP and through a new network of recycled water pipelines (transmission, distribution, and laterals) located within public road rights-of-way, private roads, and agricultural land. The proposed Project would also include a potential recharge area to increase recycled water usage and benefit the local groundwater basin through increasing groundwater table levels and recharging the basin; with the potential recharge area, the delivery of recycled water could increase by approximately 5,000 acre-feet per year. In addition, the Project includes provision of recycled water to support wetland habitat at the Stone Lakes National Wildlife Refuge (NWR) to protect the sensitive resources at the refuge during drought conditions.

The average annual recycled water delivered to potential customers is approximately 50,000 acre-feet per year. Recycled water would be delivered to approximately 16,000 acres of irrigated lands (and some limited recharge areas) and to managed wetlands at Stone Lakes NWR. The actual monthly demand would vary seasonally with the maximum demand occurring during the irrigation season, from May through September. The project is designed to deliver up to two-thirds of the maximum month demand during the irrigation season. The remaining demand would be met by groundwater pumping, the existing source of water supply. As treated wastewater would be beneficially reused, there would be a commensurate reduction in the discharge of treated wastewater into the Sacramento River.

Project Objectives

The objectives of the proposed Project are as follows:

• Reduce groundwater pumping in the Central Basin by supplying recycled water to agricultural and urban customers in south Sacramento County.

• Minimize conveyance costs while maximizing demand served.

• Improve environmental resources and benefit habitats and ecosystems to

○ Reduce streamflow losses in the Cosumnes River by raising groundwater levels.

○ Support improved riparian habitat along the Cosumnes River as a result of elevated groundwater levels along the stream margins.

○ Provide recycled water to wetlands.

The proposed Project consists of the following proposed project elements and their level of environmental evaluation in the joint EIR/EIS:

• New pump station at the SRWTP (project-level evaluation)

• 30- to 60-inch transmission pipeline from the pump station to Twin Cities Road (project-level evaluation)

• Distribution mainlines from the transmission pipeline and lateral service connections to potential customers (agriculture and Stone Lakes NWR) (program-level evaluation)

• Potential Recharge Area and wells to produce water to the meet the dilution requirements for groundwater recharge (program-level evaluation)

The EIR/EIS will also evaluate the No Project Alternative, an alternative that does not include funding by Reclamation, and a smaller-scale project alternative that would supply less recycled water to a smaller area in South Sacramento County.

Previous Scoping

Regional San mailed a notice of preparation of a Draft EIR regarding the proposed Project to the public on January 30, 2015 and held a scoping meeting on February 18, 2015 at the Sacramento Farm Bureau in Elk Grove, California.

Public Disclosure

Before including your address, phone number, email address, or other personal identifying information in your comment, you should be aware that your entire comment—including your personal identifying information—may be made publicly available at any time. While you can ask us in your comment to withhold your personal identifying information from public review, we cannot guarantee that we will be able to do so.

Dated: September 21, 2015.
Jason Phillips,
Deputy Regional Director, Mid-Pacific Region.

[FR Doc. 2015-27716 Filed 10-29-15; 8:45 am]

BILLING CODE 4332-90-P